DEPARTMENT OF HEALTH AND HUMAN SERVICES

National Institutes of Health

National Institute of Dental & Craniofacial Research; Request for Public Comment

Notice is hereby given that the Blue Ribbon Panel (BRP) on the Future of the National Institute of Dental and Craniofacial Research (NIDCR) Intramural Program (IRP) is soliciting input from interested parties.

This Panel was established by the Institute as a follow-up to a similar Panel established in 1992 in response to a recommendation from the then National Advisory Dental Research Council (NADRC) to provide advice to the Director, NIDCR. Subsequently, the External Advisory Committee (EAC) on the Intramural Research Program of the National Institutes of Health (NIH) recommended that individual reviews of each intramural program be conducted. In addition to addressing issues unique to each Institute, panels are asked to review the following trans-NIH issues:

• Innovation/impact of research

• Basic organization of the intramural program (laboratory and branch structure)

• Effectiveness of the Board of Scientific Counselors (BSC) review process

• Optimal balance between clinical and lab-based research

• Funding balance between intramural and extramural

• Quality of post-doctoral training (Career development)

• Recruitment issues (Under-represented individuals and missing areas of expertise)

• Interactions with the Office of the Director, other Institutes, central services (Office of Research Services, Clinical Center, Center for Information Technology)—special problems or opportunities

In response to the recommendation of the EAC, the NIDCR has selected a Panel composed of 10 members who are expert in a variety of relevant specialities within biomedical research. The Panel will report its findings and recommendations to the National Advisory Dental and Craniofacial Research Council for deliberation. To assure input from the public and other stakeholders, the Panel encourages written public testimony to be submitted no later than the close of business on December 30, 2005. Written input, limited to no more than 5 double-spaced pages using 12 point font and no less than 1½ inch margins, should be restricted to the questions before the Panel and should be addressed to Dr. Norman S. Braveman, Assistant to the Director, NIDCR, Building 31, Room 5B55, 31 Center Drive, Bethesda, Maryland 20892. While e-mail submissions are acceptable, they must also be accompanied by signed hard-copy submissions which must arrive no later than close of business on December 30, 2005.

Background

The NIDCR IRP, now in its 57th year, is recognized as one of the premier dental research institutions in the world. Research conducted in the IRP is unique insofar as it provides scientists the opportunity to work on high-risk innovative projects in a world class multi-disciplinary environment. At the same time, research conducted within the IRP is not intended to mirror research supported by the Institute in the extramural community. Basic and clinical research carried out in the IRP forms the basis for new directions in oral, dental and craniofacial sciences. Specific information about the organization of, and research conducted by, the IRP can be found at http://www.nidcr.nih.gov/Research/Intramural/default.htm. It conducts research in a wide range of basic and clinical science and is currently organized around seven units including: Craniofacial and skeletal diseases branch; craniofacial developmental biology and regeneration branch; gene therapy and therapeutics branch; laboratory of oral sensory biology; oral and pharyngeal cancer branch; oral infection and immunity branch; pain and neurosensory mechanisms branch. Using the latest techniques in biomedical science researchers currently investigate the molecular mechanisms of taste; the biochemistry, structure, function and development of bone, teeth, salivary glands and connective tissues; interactions between pathogens and oral tissues that cause infectious and inflammatory diseases; genetic disorders and tumors of the oral cavity; the cause and treatment of acute and chronic pain; and the development of new and improved methods to diagnose and treat oral disease.

Rationale for Establishing a Blue Ribbon Panel

While the science conducted within each laboratory of the NIDCR IRP is assessed on a four-year cycle by the Board of Scientific Counselors (BSC) it has been approximately 12 years since the overall structure and function of the entire IRP has been examined. BSC reviews are focused mainly on the quality of science conducted during the previous four-year period by a given laboratory or branch and, as such, insure that the Institute is supporting only the most meritorious research. These reviews, however, do not address the overall direction of the IRP, since they are focused on individual laboratories or branches.

While the Institute has been able to capitalize on the advice provided as the result of the previous BRP, during the past several years the face of science has changed more rapidly than in any other era. Advances in bioinformatics, genomics, molecular and developmental biology have provided us with tools to ask new and important questions that will inevitably lead to advances in prevention, diagnosis and treatment of oral, dental and craniofacial diseases. In this context it is important for the Institute to insure that the future configuration of the IRP will maximize progress toward the goals that have been set for the IRP in the new era of biomedical research.

Charge to the Panel

Since the Panel is charged with assessing the future opportunities and challenges for the IRP within broad goals that have already been set, the focus of the BRP will be to provide recommendations for an efficient and effective alignment of the IRP with directions and opportunities and resources available within the broader framework of NIH intramural research programs and the interest of the Institute complementing, rather than duplicating research already supported through the extramural research program of the Institute. To accomplish this, the BRP will address challenges to the IRP in the context of its mission, its relationship with the overall mission of the Institute, its position within the larger NIH intramural environment, and its relationship to the extramural program supported by the NIDCR. The Panel will be asked to provide advice about how to best position the IRP, using both current and to-be-developed resources, in a way that will maximize its contributions to current, emerging and future research questions about prevention, diagnosis and treatment of dental, oral and craniofacial diseases.

Questions to the Panel

The specific questions to be addressed by the Panel and written public comment are drawn from the list of topics suggested by the EAC:

• Innovation/impact of research on the broader field including the extent to which research conducted in NIDCR IRP laboratories influences research conducted throughout the world

• Basic organization of the intramural program (laboratory and branch structure) including the optimal use of resources and opportunities unique to NIH-based scientists as well as the extent to which the organization facilitates partnerships and collaborations within the IRP and with other research entities (e.g., those supported by NIDCR extramural research grants, other NIH IRP scientists, industry) conducting research

• Effectiveness of the BSC review process in identifying world-class innovative research and in providing guidance for future research directions

• Optimal balance and connection between clinical and lab-based research

• Balance between intramural and extramural research programs including funding levels and scientific topics covered by each

• Quality of post-doctoral training (career development) including preparation for independent research funded by government and non-government sources

• Recruitment issues (under-represented individuals and missing areas of expertise) including specific areas to redress gaps

• Interactions with the Office of the Director, other Institutes, central services (Office of Research Services, Clinical Center, Center for Information Technology) including special problems or opportunities that may affect the mission and directions of the IRP

Members of the public interested in providing their views to the Panel are asked to restrict their comments to the specific areas outlined above.

Further Information

For further information, please contact: Dr. Norman S. Braveman, Assistant to the Director, NIDCR, Building 31, Room 5B55, 31 Center Drive, Bethesda, Maryland 20892; telephone (301) 594-2089; fax (301) 480-0964.

Dated: September 12, 2005.
Anthony M. Coelho, Jr.,
Acting Director, Office of Federal Advisory Committee Policy.

[FR Doc. 05-18602 Filed 9-16-05; 8:45 am]

BILLING CODE 4140-01-M